DEPARTMENT OF TRANSPORTATION

Federal Aviation Administration

14 CFR Part 39

[Docket No. FAA-2009-0329; Directorate Identifier 2009-CE-020-AD; Amendment 39-16264; AD 2009-08-05 R1]

RIN 2120-AA64

Airworthiness Directives; Liberty Aerospace Incorporated Model XL-2 Airplanes

AGENCY: Federal Aviation Administration (FAA), Department of Transportation (DOT).

ACTION: Final rule.

SUMMARY: We are correcting the address, telephone, and fax information for the reporting requirement in Airworthiness Directive (AD) 2009-08-05, which applies to certain Liberty Aerospace Incorporated Model XL-2 airplanes. AD 2009-08-05 currently requires repetitively inspecting the exhaust muffler for cracks, replacing the exhaust muffler when cracks are found, and reporting the results of the inspections to the FAA. Since AD 2009-08-05 became effective, the FAA's Atlanta Aircraft Certification Office (ACO) moved, which has caused the office personnel problems in receiving fax and mailed copies of the inspection result reports. This document corrects the mailing address, telephone number, and fax information of the Atlanta ACO.

DATES: This final rule is effective April 19, 2010. The compliance date of this AD is April 20, 2009, which is the same as the effective date of AD 2009-08-05.

As of April 20, 2009 (74 FR 16117, April 9, 2009), the Director of the Federal Register approved the incorporation by reference of Liberty Aerospace, Inc. Service Document Critical Service Bulletin (CSB) CSB-09-001, Revision Level B, Revised on March 18, 2009.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT:

—Corey Spiegel, Aerospace Engineer, Atlanta Aircraft Certification Office, 1701 Columbia Avenue, College Park, Georgia 30337; telephone: (404) 474-5574; facsimile: (404) 474-5606; e-mail: corey.spiegel@faa.gov; or

—Cindy Lorenzen, Aerospace Engineer, Atlanta Aircraft Certification Office, 1701 Columbia Avenue, College Park, Georgia 30337; telephone: (404) 474-5524; facsimile: (404) 474-5606; e-mail: cindy.lorenzen@faa.gov.

SUPPLEMENTARY INFORMATION:

Discussion

On April 3, 2009, we issued AD 2009-08-05, Amendment 39-15878 (74 FR 16117, April 9, 2009), to require repetitively inspecting the exhaust muffler for cracks, replacing the exhaust muffler when cracks are found, and reporting the results of the inspections to the FAA.

Since AD 2009-08-05 became effective, the FAA's Atlanta Aircraft Certification Office (ACO) moved, which has caused the office personnel problems in receiving fax and mailed copies of the inspection result reports.

Consequently, the FAA sees a need to correct the mailing address, telephone number, and fax information of the Atlanta ACO in AD 2009-08-05 to assure that the inspection results are received and reviewed to help assure the continued operational safety of the affected airplanes. Thus, the FAA is revising the AD to incorporate the language discussed above and to add the amendment to section 39.13 of the Federal Aviation Regulations (14 CFR 39.13).

Since this action only corrects the address, telephone number, and fax information for the reporting requirement and does not require any additional actions over that originally required by AD 2009-08-05, it has no adverse economic impact and imposes no additional burden on any person than was already required. Therefore, the FAA has determined that prior notice and opportunity for public comment are unnecessary.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-08-05, Amendment 39-15878 (74 FR 16117, April 9, 2009), and adding the following new AD:

2009-08-05 R1 Liberty Aerospace Incorporated: Amendment 39-16264; Docket No. FAA-2009-0329; Directorate Identifier 2009-CE-020-AD.

Effective Date

(a) This final rule is effective April 19, 2010. The compliance date of this AD is April 20, 2009, which is the same as the effective date of AD 2009-08-05.

Affected ADs

(b) This AD revises AD 2009-08-05.

Applicability

(c) This AD applies to Model XL-2 airplanes, serial numbers 0007, 0009, and subsequent, that are certificated in any category.

Unsafe Condition

(d) This AD is the result of reports that eight cracks have been found in the exhaust muffler during maintenance and service inspections. We are issuing this AD to detect and correct cracks in the exhaust muffler, which could result in carbon monoxide entering the cabin heating system. This condition could lead to incapacitation of the pilot.

Compliance

(e) To address this problem, you must do the following, unless already done:

Actions | Compliance | Procedures
(1) Inspect the following: (i) The exhaust muffler for cracks. There are two different exhaust systems available for the affected airplanes. They are: (A) Standard exhaust system, part number (P/N) DEL200201-002 that incorporates muffler P/N DEL200201-101; and | Initially inspect within the next 10 hours time-in-service (TIS) after April 20, 2009 (the effective date of AD 2009-08-05) or at the next annual inspection, whichever occurs first. Repetitively inspect the exhaust muffler thereafter as specified in paragraph (e)(5) of this AD. | Follow Liberty Aerospace, Inc. Service Document Critical Service Bulletin (CSB) CSB-09-001, Revision Level B, Revised on March 18, 2009.
(B) Reduced sound exhaust system, P/N DEL200201-003 that incorporates muffler P/N 200201-104.
(ii) The tail pipe and the tail pipe opening in the lower cowl for a 0.5-inch minimum clearance.
(iii) Inspect the propeller for proper propeller clocking position.
(2) As a result of the inspections required in paragraphs (e)(1)(ii) and (e)(1)(iii) of this AD: (i) If the clearance between the tail pipe and the tail pipe opening is less than the required 0.5-inch minimum, trim the lower cowl as needed to achieve the minimum clearance. | Before further flight after the inspection required in paragraph (e)(1) of this AD. | As specified in Liberty Aerospace, Inc. Service Document Critical Service Bulletin (CSB) CSB-09-001, Revision Level B, Revised on March 18, 2009.
(ii) If there is a discrepancy in the propeller clocking position, remove and reinstall the propeller at the correct position.
(3) As a result of the initial inspection required in paragraph (e)(1)(i) of this AD or any repetitive inspection required in paragraph (e)(5) of this AD, if a crack is found, replace the exhaust muffler. (i) The manufacturer will provide the replacement exhaust system. | Before further flight after the initial inspection required in paragraph (e)(1) of this AD and before further flight after any repetitive inspection required in paragraph (e)(5) of this AD. | Follow Liberty Aerospace, Inc. Service Document Critical Service Bulletin (CSB) CSB-09-001, Revision Level B, Revised on March 18, 2009.
(ii) A reduced sound exhaust system may be replaced with a standard exhaust system.
(iii) Installing a reduced sound exhaust system as a replacement part also requires installing a bypass SCAT tube and a “Do Not Use” placard on or near the heater knob.
(4) If the airplane is equipped with a reduced sound exhaust system and no cracks are found during the initial inspection required in paragraph (e)(1) of this AD, install a bypass SCAT tube and a “Do Not Use” placard on or near the heater knob. | Within the next 10 hours TIS after April 20, 2009 (the effective date of AD 2009-08-05). | Follow Liberty Aerospace, Inc. Service Document Critical Service Bulletin (CSB) CSB-09-001, Revision Level B, Revised on March 18, 2009.
(5) If no cracks are found in the exhaust muffler during the initial inspection required in paragraph (e)(1) of this AD or if the exhaust muffler was replaced as required in paragraph (e)(3) of this AD, repetitively inspect thereafter at the intervals specified in paragraphs (e)(5)(i), (e)(5)(ii), and (e)(5)(iii) of this AD. | (i) For airplanes equipped with a standard exhaust system and the optional bypass SCAT tube has not been installed, repetitively inspect thereafter every 25 hours TIS or every 12 months, whichever occurs first. (ii) For airplanes equipped with a standard exhaust system and the optional bypass SCAT tube has been installed, repetitively inspect thereafter every 50 hours TIS or every 12 months, whichever occurs first. | Follow Liberty Aerospace, Inc. Service Document Critical Service Bulletin (CSB) CSB-09-001, Revision Level B, Revised on March 18, 2009.
| (iii) For airplanes equipped with a reduced sound exhaust system and the required bypass SCAT tube has been installed, repetitively inspect thereafter every 50 hours TIS or every 12 months, whichever occurs first.
(6) Report the results of the following inspections required in this AD to the FAA. (i) Initial inspection required in paragraph (e)(1) of this AD. (ii) Repetitive inspections required in paragraph (e)(5) of this AD only if cracks are found. | Within 10 days after each inspection required by this AD. | Use the form (Figure 1 of this AD) and submit it to FAA, Atlanta Aircraft Certification Office, 1701 Columbia Avenue, College Park, Georgia 30337; fax: (404) 474-5606; e-mail corey.spiegel@faa.gov.
(iii) The Office of Management and Budget (OMB) approved the information collection requirements contained in this regulation under the provisions of the Paperwork Reduction Act of 1980 (44 U.S.C. 3501 et seq.) and assigned OMB Control Number 2120-0056.

AD 2009-08-05 R1 Inspection Report
Airplane Serial Number |
Airplane Tach Hours at time of inspection |
Propeller type (circle one) | MT | Sensenich
Propeller Tach Hours at time of inspection |
Exhaust Type (circle one) | Standard | Reduced Sound
Is Exhaust Cracked? (circle one) | YES | NO
Did lower cowl require trimming at the tail pipe opening? (circle one) Not applicable after initial inspection | YES | NO
Did the propeller clocking position need to be corrected? (circle one) Not applicable after initial inspection. | YES | NO
Were any other discrepancies noticed during the inspection? |
Name: |
Telephone and/or e-mail address: |
Date: |
Send report to: Corey Spiegel, Aerospace Engineer, Atlanta ACO,
1701 Columbia Avenue, College Park, Georgia 30337;
facsimile: (404) 474-5606; e-mail: corey.spiegel@faa.gov.
Figure 1

Special Flight Permit

(f) Under 14 CFR part 39.23, we are limiting the special flight permits for this AD by the following conditions:

(1) The cabin heat turned off; and

(2) The fresh air vents are open.

Alternative Methods of Compliance (AMOCs)

(g) The Manager, Atlanta Aircraft Certification Office (ACO), FAA, has the authority to approve AMOCs for this AD, if requested using the procedures found in 14 CFR 39.19. Send information to Attn: Corey Spiegel, Aerospace Engineer, Atlanta ACO, 1701 Columbia Avenue, College Park, Georgia 30337. Before using any approved AMOC on any airplane to which the AMOC applies, notify your appropriate principal inspector (PI) in the FAA Flight Standards District Office (FSDO), or lacking a PI, your local FSDO.

Material Incorporated by Reference

(h) You must use Liberty Aerospace, Inc. Service Document Critical Service Bulletin (CSB) CSB-09-001, Revision Level B, Revised on March 18, 2009, to do the actions required by this AD, unless the AD specifies otherwise.

(1) On April 20, 2009 (74 FR 16117, April 9, 2009), the Director of the Federal Register previously approved the incorporation by reference of this service information under 5 U.S.C. 552(a) and 1 CFR part 51.

(2) For service information identified in this AD, contact Liberty Aerospace, 100 Aerospace Drive, Melbourne, Florida 32901; telephone: (321) 752-0332 or (800) 759-5953; fax: (321) 752-0377; Internet: http://www.libertyaircraft.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on April 7, 2010.
Kim Smith,
Manager, Small Airplane Directorate, Aircraft Certification Service.

[FR Doc. 2010-8596 Filed 4-16-10; 8:45 am]

BILLING CODE 4910-13-P